DEPARTMENT OF ENERGY

Notice of Wetland and Floodplain Involvement

AGENCY: Chicago Operations Office, DOE.

ACTION: Notice.

SUMMARY: DOE proposes to implement a wetland management program at Argonne National Laboratory-East (ANL-E) to maintain and enhance wetland resources and improve wetland function. In accordance with DOE regulations for Compliance with Floodplains/Wetlands Environmental Review Requirements (10 CFR part 1022), DOE will prepare a wetland and floodplain assessment for this proposed action. This assessment will be incorporated into the Environmental Assessment (EA) being prepared for this project in accordance with the requirements of the National Environmental Policy Act. A floodplain statement of findings will be included in any finding of no significant impact that is issued following the completion of the EA or may be issued separately.

DATES: Comments are due to the address below no later than July 24, 2001.

ADDRESSES: Comments should be addressed to Michael J. Flannigan, Director, Safety and Technical Services Division, U.S. Department of Energy, Chicago Operations Office, 9800 S. Cass Avenue, Argonne, IL 60439. (630) 252-2219.

FOR FURTHER INFORMATION CONTACT: Further information on this proposed action and wetlands and floodplain assessment can be obtained from Donna Green, U.S. Department of Energy, Argonne Area Office, 9800 S. Cass Avenue, Argonne, IL 60439. (630) 252-2264.

SUPPLEMENTARY INFORMATION: DOE's wetland management program would include: removal of invasive plant species in wetlands and near wetlands by application of herbicide or by cutting or pulling; planting seeds and live plants to increase coverage and diversity of native plants; and prescribed burns to increase native species populations and reduce non-native species. Wetland communities would be monitored regularly to assess wetland conditions; wetland boundaries would be delineated on the ANL-E site map; and DOE would return wetland hydrology to a drained wetland to provide compensatory wetland mitigation for impacts. The wetland that DOE would restore and many of the other wetlands that DOE would manage are located in floodplains.

Issued in Argonne, IL on June 26, 2001.
Michael J. Flannigan,
Director, Safety and Technical Services, Chicago Operations Office, Department of Energy.

[FR Doc. 01-17068 Filed 7-6-01; 8:45 am]

BILLING CODE 6450-01-P